DEPARTMENT OF LABOR

Employment and Training Administration

[TA-W-59,745]

Jantzen, LLC; A Subsidiary of Perry Ellis International; Seneca, SC; Dismissal of Application for Reconsideration

Pursuant to 29 CFR 90.18(C) an application for administrative reconsideration was filed with the Director of the Division of Trade Adjustment Assistance for workers at Jantzen, LLC, A Subsidiary of Perry Ellis International, Seneca, South Carolina. The application did not contain new information supporting a conclusion that the determination was erroneous, and also did not provide a justification for reconsideration of the determination that was based on either mistaken facts or a misinterpretation of facts or of the law. Therefore, dismissal of the application was issued.

TA-W-59,745; Jantzen, LLC, A Subsidiary of Perry Ellis, International, Seneca, South Carolina, (September 26, 2006).

Signed at Washington, DC, this 29th day of September 2006.
Linda G. Poole,
Certifying Officer, Division of Trade Adjustment Assistance.

[FR Doc. E6-17107 Filed 10-13-06; 8:45 am]

BILLING CODE 4510-30-P